DEPARTMENT OF HOUSING AND URBAN DEVELOPMENT

[Docket No. FR-5750-N-47]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: GSA: Mr. Flavio Peres, General Services Administration, Office of Real Property Utilization and Disposal, 1800 F Street NW., Room 7040, Washington, DC 20405, (202) 501-0084; (This is not a toll-free number).

Dated: November 13, 2014.
Brian P. Fitzmaurice,
Director, Division of Community Assistance, Office of Special Needs Assistance Programs.

TITLE V, FEDERAL SURPLUS PROPERTY PROGRAM FEDERAL REGISTER REPORT FOR 11/21/2014

Suitable/Unavailable Properties

Building

Alaska

Commercial Lot w/2 Story Structure, Legends Parcel

412 Washington Ave.

Seward AK 99664

Landholding Agency: GSA

Property Number: 54201320010

Status: Surplus

GSA Number: 9-I-AK-0803AB

Directions: GSA is the disposal agency; NPD/DOII is the landholding agency

Comments: 3,538 sf.; restaurant.

Idaho

Ditchrider House

3970 1st Lane East

Parma ID 83660

Landholding Agency: GSA

Property Number: 54201420011

Status: Excess

GSA Number: 9-I-ID-0585

Directions: Landholding Agency: Dept. of Homeland Security; Disposal Agency: GSA

Comments: 1,194 sq. ft.; residence; 48+ months vacant; extensive repairs needed; contact GSA for more info.

BOR Upper Snake River Field Office

1359 Hansen Ave.

Burley ID 83318

Landholding Agency: GSA

Property Number: 54201420012

Status: Excess

GSA Number: 9-I-ID-0586

Directions: Landholding Agency: Interior; Disposal Agency: GSA

Comments: 9,828 sq. ft.; office; 48+ months vacant; good to moderate conditions; contact GSA for more info.

Illinois

Peoria Radio Repeater Site

Between Spring Creek and Caterpillar Lane

Peoria IL

Landholding Agency: GSA

Property Number: 54201420008

Status: Excess

GSA Number: I-D-IL-806

Directions: Landholding Agency; COE; Disposal agency GSA

Comments: 8x12 equipment storage shed; fair conditions contact GSA for more information.

Kansas

Former SS Admin. Building

801 S. Broadway

Pittsburg KS 66762

Landholding Agency: GSA

Property Number: 54201420007

Status: Surplus

GSA Number: 7-G-KS-0529

Comments: 5,918 sq. ft.; sits on .52 acres; Admin. bldg.; 42+ yrs.-old; fair conditions; asbestos; lead-based paint; mold possible; contact GSA for more information.

Maryland

Carroll County Memorial USA RC

404 Malcolm Drive

Westminster MD 21157

Landholding Agency: GSA

Property Number: 54201430003

Status: Excess

GSA Number: 4-DMD-1130AA

Directions: Landholding agency; Army; Disposal Agency; GSA

Comments: 3 Building totaling 15,719 sq. ft., storage/maintenance good conditions; asbestos/lead-based paint/polychlorinated biphenyl; remediation required; contact GSA for more information.

Michigan

Nat'l Weather Svc Ofc

214 West 14th Ave.

Sault Ste. Marie MI

Landholding Agency: GSA

Property Number: 54200120010

Status: Excess

GSA Number: 1-C-MI-802

Comments: 2230 sq. ft., presence of asbestos, most recent use—office.

Texas

2 Buildings; Natural Resource Conservation Service Waco Facility

200 South Price Street

Waco TX 76501

Landholding Agency: GSA

Property Number: 54201430007

Status: Surplus

GSA Number: 7-A-TX-0556

Directions: Landholding agency; Agriculture; Disposal Agency; GSA.

Comments: 18,460 sq. ft.; storage; 60+ months vacant; very poor condition; within a security fence; contact GSA for more information.

Virginia

Johnson House and Shed

12503 Cavalry Court

Spotsylvania VA 22553

Landholding Agency: GSA

Property Number: 54201430005

Status: Excess

GSA Number: 4-I-VA-1145AA

Directions: Landholding Agency; Interior; Disposal Agency; GSA

Comments: Off-site removal only; 1,357 +/− sq. ft.; repairs needed; contact GSA for more information.

Washington

Old Colville Border Patrol

209 E. Juniper Ave.

Colville WA 99114

Landholding Agency: GSA

Property Number: 54201420009

Status: Excess

GSA Number: 9-Z-WA-1272

Directions: Landholding Agency: Dept. of Homeland Security; Disposal Agency: GSA

Comments: 5,500 sq. ft.; office; 18+ months vacant; good to moderate conditions; contact GSA for more info.

Old Oroville Border Patrol Station

1105 Main St.

Oroville WA 98844

Landholding Agency: GSA

Property Number: 54201420010

Status: Excess

GSA Number: 9-Z-WA-1272-AB

Directions: Landholding Agency: Dept. of Homeland Security; Disposal Agency: GSA

Comments: 5,500 sq. ft.; office; 18+ months vacant; good to moderate conditions; contact GSA for more info.

Wisconsin

St. Croix National Scenic Riverway Residential Structures

401 N. Hamilton St.

St. Croix Falls WI 54204

Landholding Agency: GSA

Property Number: 54201430001

Status: Excess

GSA Number: 1-I-WI-541B

Directions: Landholding Agency: Interior; Disposal Agency: GSA

Comments: House #1: 1,048 sq. ft.; House #2: 2,376 sq. ft.; House #3: 2,936 sq. ft.; good to fair conditions; LBP; contact GSA for more information.

Land

Missouri

Former Nike Battery Site

Kansas City 30

15616 S KK Highway

Pleasant Hill MO 64080

Landholding Agency: GSA

Property Number: 54201430002

Status: Surplus

GSA Number: 7-D-MO-0522

Comments: 19.52 acres +/− and 4.02 easement acres +/−; education use; contact GCA for more information.

South Carolina

Former FAA Outer Marker Facility—Greer

Brookfield Parkway

Greer SC 29651

Landholding Agency: GSA

Property Number: 54201410011

Status: Excess

GSA Number: 1-U-SC-0631

Comments: 0.99 acres; contact GSA for more information.

Tennessee

Former FAA Outer Marker Facility—Nashville

W End of Kinhawk Drive

Nashville TN 37211

Landholding Agency: GSA

Property Number: 54201410012

Status: Excess

GSA Number: 1-U-TN-0672

Comments: 12.20 acres; contact GSA for more information.

[FR Doc. 2014-27321 Filed 11-20-14; 8:45 am]

BILLING CODE 4210-67-P